DEPARTMENT OF AGRICULTURE

Forest Service

Southern Region Recreation Resource Advisory Committee

AGENCY: Forest Service, USDA.

ACTION: Notice of meeting.

SUMMARY: The Southern Region Recreation Resource Advisory Committee (Recreation RAC) will meet in Decatur, Georgia. The committee is authorized under the Federal Lands Recreation Enhancement Act (the Act) and operates in compliance with the Federal Advisory Committee Act. The purpose of the committee is to provide recommendations to the Secretaries on recreation fees on lands and waters managed by the Forest Service and the Department of the Interior's Bureau of Land Management in the regions covered by each Committee. Additional Recreation RAC information, including the meeting agenda and the meeting summary/minutes can be found at the following website: http://www.fs.usda.gov/main/r8/recreation/racs.

DATES: The meetings will be held on the following dates:

• Tuesday, August 27, 2019, from 8:30 a.m. to 4:30 p.m., and

• Wednesday, August 28, 2019, from 8:30 a.m. to 4:30 p.m., Eastern Standard Time.

All Recreation RAC meetings are subject to cancellation. For status of the meeting prior to attendance, please contact Tiffany Williams, by telephone at 404-347-2769 or by email at tiffany.p.williams@usda.gov.

ADDRESSES: The meeting will be held at the Courtyard Marriott, 130 Clairemont Avenue, Decatur, Georgia.

Written comments may be submitted as described under SUPPLEMENTARY INFORMATION. All comments, including names and addresses, when provided, are placed in the record and available for public inspection and copying. The public may inspect comments received at the USDA Forest Service, 1720 Peachtree Road Northwest, Atlanta, Georgia. Please call ahead at 404-347-2769 to facilitate entry into the building.

FOR FURTHER INFORMATION CONTACT: Tiffany Williams, Committee Coordinator, USDA Forest Service, 1720 Peachtree Road Northwest, Atlanta, Georgia 30309, by telephone at 404-347-2769 or by email at tiffany.p.williams@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Receive recommendations concerning recreation fee proposals on areas managed by the Forest Service in Alabama, Arkansas, Florida, Georgia, Kentucky, Louisiana, Mississippi, North Carolina, Oklahoma, South Carolina, Tennessee, Texas, Virginia, and the territory of Puerto Rico; and

(2) Discuss other items of interest related to the Act.

The meeting is open to the public. The agenda will include time for people to make oral statements of three minutes or less. Individuals wishing to make an oral statement should request in writing by August 20, 2019, to be scheduled on the agenda. Committee discussion is limited to Forest Service staff and committee members. However, persons who wish to bring recreation fee matters to the attention of the committee may file written statements with the committee staff before the meeting. Written comments and time requests for oral comments must be sent to Tiffany Williams, Committee Coordinator, USDA Forest Service, 1720 Peachtree Road Northwest, Atlanta, Georgia 30309; by email tiffany.p.williams@usda.gov or by facsimile to 404-347-6217. A summary of the meeting will be posted on the website listed above within 21 days of the meeting.

Meeting Accommodations: If you are a person requiring reasonable accommodation, please make your request in advance for sign language interpreting, assistive listening devices or other reasonable accommodation. For access to the facility or proceedings, please contact Tiffany Williams, by telephone at 404-347-6217 or by email at tiffany.p.williams@usda.gov. All reasonable accommodation requests are managed on a case by case basis.

Dated: July 17, 2019.
Richard A. Cooksey,
Acting Associate Deputy Chief, National Forest System.

[FR Doc. 2019-16713 Filed 8-5-19; 8:45 am]

BILLING CODE 3411-15-P